DEPARTMENT OF COMMERCE

National Oceanic and Atmospheric Administration

Agency Information Collection Activities; Submission to the Office of Management and Budget for Review and Approval; Comment Request; Southeast Region IFQ Programs

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 1, 2020, during a 60-day comment period. This notice allows for an additional 30 days for public comments.

Agency: National Oceanic and Atmospheric Administration, Commerce.

Title: Southeast Region IFQ Programs.

OMB Control Number: 0648-0551.

Form Number(s): None.

Type of Request: Regular submission—extension and revision of a current information collection.

Estimated Number of Respondents: 1,164.

Estimated Time per Response:

• Dealer Landing Transaction Report, 6 minutes (electronic form)

• Dealer Landing Transaction Report, 5 minutes (paper form used in catastrophic conditions only)

• Dealer Cost Recovery Fee Submission through pay.gov, 3 minutes

• IFQ Notification of Landing, 5 minutes

• Transfer Shares, 3 minutes

• Share Receipt, 2 minutes

• Transfer Allocation, 3 minutes

• IFQ Online Account Application, 13 minutes

• Wreckfish Quota Share Transfer, 20 minutes

• Landing Transaction Correction Request, 5 minutes

• Commercial Reef Fish Landing Location Request, 5 minutes

• Account Update, 2 minutes

• Trip Ticket Update, 2 minutes

• Gulf Reef Fish Notification of Landing, 3 minutes

• IFQ Close Account, 3 minutes

Estimated Total Annual Burden Hours: 2,109.

Needs and Uses: The National Marine Fisheries Service's Southeast Regional Office manages three commercial individual fishing quota (IFQ) and individual transferable quota (ITQ) programs in the U.S. southeast region under the authority of the Magnuson-Stevens Fishery Conservation and Management Act (Magnuson-Stevens Act). The IFQ programs for red snapper, and groupers and tilefishes occur in Federal waters of the Gulf of Mexico (Gulf), and the ITQ program for wreckfish occurs in Federal waters of the South Atlantic.

The NMFS Southeast Regional Office proposes to extend and revise parts of the information collection currently approved under OMB Control Number 0648-0551. This collection of information tracks the transfer and use of IFQ and ITQ shares, and IFQ allocation and landings by commercial fishermen necessary for NMFS to operate, administer, and review management of the IFQ and ITQ programs. Regulations for the IFQ and ITQ programs are located at 50 CFR part 622.

For the Gulf IFQ programs, the revisions would collect additional business and demographic information on the IFQ Online Account Application, as well as add a requirement to input the vessel signature personal identification number (PIN) a second time on the Dealer Landing Transaction Report if a criterion is met.

NMFS would revise the IFQ Online Account Application to obtain ownership percentage data for any business that participates in the Gulf IFQ programs, as well as the type of business, and confirmation of whether the business is small or large, as defined by Small Business Administration standards.

NMFS would revise the Dealer Landing Transaction Report to add a requirement for a shareholder to input the vessel signature PIN a second time if the landing transaction would result in a 10 percent overage of their catch allocation during that fishing year. NMFS proposes to add a feature to the Dealer Landing Transaction Report that would notify the shareholder that a 10 percent overage would occur and in which categories, and require the vessel signature PIN to accept the overage. Although the 10 percent overage is utilized infrequently, this would provide the shareholder the opportunity to transfer allocation and avoid using the 10 percent overage.

The purpose of revising the IFQ Online Account Application is to better comply with National Standard 4 (NS4) of the Magnuson-Stevens Act, the Regulatory Flexibility Act (RFA), and the Small Business Administration's regulations implementing the RFA, Executive Order 12898, and the “fairness and equitable distribution” provisions of the Magnuson-Stevens Act, including NS4 and section 303(b)(6). The purpose of revising the Dealer Landing Transaction Report is to better inform participants in the Gulf IFQ programs and require an additional verification from them when the existing flexibility measure of a 10 percent overage of their allocation would occur.

If implemented by NMFS, these administrative revisions would slightly increase the estimated time per response to complete the IFQ Online Account Application. NMFS estimates the time per response would increase from 10 to 13 minutes. However, NMFS does not expect the estimated time per response for the Dealer Landing Transaction Report to change. The cost of both the IFQ Online Account Application and the Dealer Landing Transaction Report would remain the same. NMFS proposes no other revisions to the existing information collections for the IFQ and ITQ programs approved in OMB Control No. 0648-0551.

Affected Public: Business or other for-profit organizations.

Frequency: Annually, quarterly, and on occasion.

Respondent's Obligation: Mandatory, required to obtain or retain benefits.

Legal Authority: 16 U.S.C. 1801 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments,” or by using the search function and entering either the title of the collection or the OMB Control Number 0648-0551.

Sheleen Dumas,
Department PRA Clearance Officer, Office of the Chief Information Officer, Commerce Department.

[FR Doc. 2021-03627 Filed 2-22-21; 8:45 am]

BILLING CODE 3510-22-P